DEPARTMENT OF HEALTH AND HUMAN SERVICES

Centers for Medicare & Medicaid Services

[Document Identifier: CMS-1561, CMS-R-308, CMS-10335 and CMS-R-53]

Agency Information Collection Activities: Submission for OMB Review; Comment Request

AGENCY: Centers for Medicare & Medicaid Services, HHS.

In compliance with the requirement of section 3506I(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Health Insurance Benefit Agreement; Use: Applicants to the Medicare program are required to agree to provide services in accordance with Federal requirements. The CMS-1561 is essential for CMS to ensure that applicants are in compliance with the requirements. Applicants will be required to sign the completed form and provide operational information to CMS to assure that they continue to meet the requirements after approval. Form Number: CMS-1561 (OMB#: 0938-0832); Frequency: Yearly; Affected Public: Private Sector: Business or other for-profits and Not-for-profit institutions; Number of Respondents: 3,000; Total Annual Responses: 3,000; Total Annual Hours: 500. (For policy questions regarding this collection contact JoAnn Perry at 410-786-3336. For all other issues call

2. Type of Information Collection Request: Extension of a currently approved collection; Title of Information Collection: Children's Health Insurance Program; Use: States are required to submit title XXI plans and amendments for approval by the Secretary pursuant to section 2102 of the Social Security Act in order to receive funds for initiating and expanding health insurance coverage for uninsured children. States are also required to submit State expenditure and statistical reports, annual reports and State evaluations to the Secretary as outlined in title XXI of the Social Security Act. Form Number: CMS-R-308 (OMB#: 0938-0841); Frequency: Yearly, Quarterly, Once and/or Occasionally; Affected Public: State, Local, or Tribal Governments; Number of Respondents: 56; Total Annual Responses: 1,114,124 Total Annual Hours: 864,973. (For policy questions regarding this collection contact Nancy Goetschius at 410-786-0707. For all other issues call 410-786-1326.) 410-786-1326.)

3. Type of Information Collection Request: New collection; Title of Information Collection: Current State Practices Related to Payments to Providers for Health Care- Acquired Conditions; Use: The Patient Protection and Affordable Care Act of 2010 (Affordable Care Act), enacted March 23, 2010 includes provisions prohibiting Federal Financial Participation to States for payments for health care-acquired conditions (HCACs). Section 2702(a) specifically requires that the Secretary identify current State practices that prohibit payment for HCACs and incorporate those practices or elements of those practices which she determines appropriate for application to the Medicaid program. In accordance with section 2702(a) of the Affordable Care Act, CMS is issuing this survey to States to obtain information on current State Medicaid practices for prohibiting payments for HCACs. Form Number: CMS-10335 (OMB#: 0938-New); Frequency: Once; Affected Public: State, Local, or Tribal Governments; Number of Respondents: 50 Total Annual Responses: 50; Total Annual Hours: 50 (For policy questions regarding this collection contact Venesa Day at 410-786-8281. For all other issues call 410-786-1326.)

4. Type of Information Collection Request: Revision of a currently approved collection; Title of Information Collection: Imposition of Cost Sharing Charges under Medicaid and Supporting Regulations in 42 CFR 447.53; Use: The purpose of this collection is to ensure that States impose normal cost sharing charges upon categorically and medically needy individuals as allowed by law and implementing regulations. States must identify in their State plan the service for which the charge is made, the amount of the charge, the basis for determining the charge, the basis for determining whether an individual is unable to pay the charge and the way in which the individual will be identified to providers, and the procedures for implementing and enforcing the exclusions from cost sharing. Form Number: CMS-R-53 (OMB#: 0938-0429); Frequency: Occasionally; Affected Public: State, Local, or Tribal Governments; Number of Respondents: 56; Total Annual Responses: 2; Total Annual Hours: 20. (For policy questions regarding this collection contact Barbara Washington at 410-786-9964. For all other issues call 410-786-1326.)

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on November 15, 2010.

OMB, Office of Information and Regulatory Affairs, Attention: CMS Desk Officer, Fax Number: (202) 395-6974, E-mail: OIRA_submission@omb.eop.gov.

Dated: October 8, 2010.
Michelle Shortt,
Director, Regulations Development Group, Office of Strategic Operations and Regulatory Affairs.

[FR Doc. 2010-25932 Filed 10-14-10; 8:45 am]

BILLING CODE 4120-01-P